DEPARTMENT OF HOMELAND SECURITY

U.S. Customs and Border Protection

U.S. Customs and Border Protection 2014 East Coast Trade Symposium: “Increasing Economic Competitiveness Through Global Partnership and Innovation”

AGENCY: U.S. Customs and Border Protection, Department of Homeland Security (DHS).

ACTION: Notice of Trade Symposium.

SUMMARY: This document announces that CBP will convene only one Symposium in 2014, the East Coast Trade Symposium, which will be held in Washington, DC on Thursday, March 6 and Friday, March 7, 2014. The East Coast Trade Symposium will feature panel discussions involving agency personnel, members of the trade community and other government agencies, on the agency's role in international trade initiatives and programs. This marks our thirteenth year convening the Trade Symposium. Members of the international trade and transportation communities and other interested parties are encouraged to attend.

DATES: Thursday, March 6, 2014, (opening remarks and general sessions, 8:00 a.m.-6:00 p.m.). Friday, March 7, 2014, (opening remarks, breakout sessions, and closing remarks, 8:30 a.m.-1:00 p.m.).

ADDRESSES: The CBP 2014 East Coast Trade Symposium will be held at the Washington Hilton Hotel, at 1919 Connecticut Avenue NW., Washington, DC 20009, in the Columbia 5-12 room.

FOR FURTHER INFORMATION CONTACT: The Office of Trade Relations at (202) 344-1440, or at tradeevents@dhs.gov. To obtain the latest information on the Symposium and to register online, visit the CBP Web site at http://www.cbp.gov/xp/cgov/trade/trade_outreach/2014_trade_symp/. Requests for special needs should be sent to the Office of Trade Relations at tradeevents@dhs.gov.

SUPPLEMENTARY INFORMATION: CBP will be holding one Trade Symposium in 2014 and it will be held on the East Coast in Washington, DC. Due to budgetary constraints as a result of sequestration, CBP will not be holding a West Coast Trade Symposium in 2014. This document announces that CBP will convene the 2014 East Coast Trade Symposium on Thursday, March 6 and Friday, March 7, 2014. The theme for the 2014 East Coast Trade Symposium will be “Increasing Economic Competitiveness Through Global Partnership and Innovation.” The format of the East Coast Trade Symposium will be held with general sessions and breakout sessions. Discussions will be held regarding CBP's role in international trade initiatives and partnerships.

The agenda for the 2014 East Coast Trade Symposium and the keynote speakers will be announced at a later date on the CBP Web site (http://www.cbp.gov). Registration is now open. The registration fee is $128.00 per person. Interested parties are requested to register early, as space is limited. All registrations must be made online at the CBP Web site (http://www.cbp.gov/xp/cgov/trade/trade_outreach/2014_trade_symp/) and will be confirmed with payment by credit card only.

Due to the overwhelming interest to attend past symposiums, each company is requested to limit its company's registrations to no more than three participants, in order to afford equal representation from all members of the international trade community. If a company exceeds the limitation, any additional names submitted for registration will automatically be placed on a waiting list.

Hotel accommodations will be announced at a later date on the CBP Web site (http://www.cbp.gov).

Dated: December 16, 2013.
Maria Luisa Boyce,
Senior Advisor for Private Sector Engagement, Executive Director, Office of Trade Relations, Office of the Commissioner, U.S. Customs and Border Protection.

[FR Doc. 2013-30279 Filed 12-19-13; 8:45 am]

BILLING CODE P